FEDERAL COMMUNICATIONS COMMISSION

[DA 02-1440]

Freeze on the Filing of TV and DTV “Maximization” Applications in Channels 52-59

AGENCY: Federal Communications Commission.

ACTION: Notice.

SUMMARY: This document announces an immediate freeze on the filing of “maximization” applications, as defined further, by analog and digital television broadcast stations in the 698-746 MHz spectrum band, currently comprising television channels 52-59. This freeze will assist participants in Auction No. 44, consisting of spectrum licenses in the 698-746 MHz band (Lower 700 MHz band), to determine the areas potentially available in the band for the provision of service by auction winners before the channels are cleared of broadcast stations at the end of the DTV transition.

DATES: The Freeze became effective on June 18, 2002

ADDRESSES: 445 12th Street SW., Washington, DC 20554.

FOR FURTHER INFORMATION CONTACT: Kim Matthews, Policy Division, Media Bureau, Federal Communications Commission, (202) 418-2120.

SUPPLEMENTARY INFORMATION: Beginning immediately, and until further notice, the Federal Communications Commission (“Commission”) will not accept for filing television modification applications that would increase a station's analog or DTV service area in channels 52-59 in one or more directions beyond the combined area resulting from the station's parameters as defined in the following: (1) The DTV Table of Allotments; (2) Commission authorizations (license and/or construction permit); and (3) applications on file with the Commission prior to release of this Notice. We will continue to process applications on file as of June 18, 2002, the date this Notice was released. The Media Bureau may consider, on a case by case basis and consistent with the public interest, amendments to those applications to, for example, resolve interference with other stations or pending applications or resolve mutual exclusivity with other pending applications.

The Bureau will consider, on a case-by-case basis, requests for waiver of this freeze where the modification application: (1) Would permit co-location of transmitter sites in a market in circumstances consistent with the Commission's policy of encouraging co-location to reduce the cost of construction, particularly of DTV facilities, or to achieve more efficient spectrum use; or (2) is necessary or otherwise in the public interest for technical or other reasons to maintain quality service to the public, such as where zoning restrictions preclude tower construction at a particular site or where unforeseen events, such as extreme weather events or other extraordinary circumstances, require relocation to a new tower site. In particular, we would be inclined to grant waivers of the freeze for broadcast stations that seek new tower sites due to the events of September 11, 2001.

As with any request for waiver of our rules, a request for waiver of the freeze imposed in this Notice will be granted only upon a showing of good cause and where grant of the waiver will serve the public interest.

Federal Communications Commission.
Marlene H. Dortch,
Secretary, Federal Communications Commission.

[FR Doc. 02-16903 Filed 7-5-02; 8:45 am]

BILLING CODE 6712-01-P